DEPARTMENT OF DEFENSE

Department of the Navy

[Docket ID: USN-2008-0039]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on June 4, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: April 29, 2008.
Patricia Toppings,
OSD Federal Register Liaison Officer, Department of Defense.

N12950-3

System name:

Employee Benefits Records (September 20, 1993, 58 FR 48852).

Changes:

Delete “N12950-3” and replace with “N04066-7”.

System name:

Add “NEXCOM” in front of entry.

* * * * *

Authority for maintenance of the system:

Delete entry and replace with “10 U.S.C. 5013, Secretary of the Navy and E.O. 9397 (SSN).”

* * * * *

Safeguards:

Delete entry and replace with “Password controlled system, file, and element access based on predefined need-to-know. Physical access to terminals, terminal rooms, buildings and activities' grounds are controlled by locked terminals and rooms, guards, personnel screening and visitor registers.”

Retention and disposal:

Delete entry and replace with “Destroy after GAO audit or when 6 years old, whichever is sooner.”

* * * * *

Notification procedure:

Delete paragraph 2 and replace with “The request must contain the individual's full name, Social Security Number, and activity where last employed.”

Record access procedures:

Add paragraph 2 that reads “The request must contain the individual's full name, Social Security Number, and activity where last employed.”

* * * * *

Record source categories:

Delete entry and replace with “Individual, supervisor, employee's physician and/or insurance carrier's physician.”

* * * * *

N04066-7

System name:

NEXCOM Employee Benefits Records.

System location:

Navy Exchange Service Command, 3280 Virginia Beach Boulevard, Virginia Beach, VA 23452-5724 (for all Navy Exchanges).

Categories of individuals covered by the system:

Civilian employees and former civilian employees with the Navy Exchange Service Command and Navy Exchanges located worldwide. Payroll and benefits information for current and former civilian employees of Coast Guard exchanges, clubs and messes.

Categories of records in the system:

Leave accrual reports; earnings records; insurance records and reports regarding property damage, personal injury or death, group life, disability, medical and retirement plan records.

Authority for maintenance of the system:

10 U.S.C. 5013, Secretary of the Navy and E.O. 9397 (SSN).

Purpose(s):

To record contributions to benefit plans; to process all insurance claims; to calculate retirement benefits upon request of employees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the insurance carriers and the U.S. Department of Labor, Bureau of Employees Compensation to process employee compensation claims.

The “Blanket Routine Uses” that appear at the beginning of the Navy's compilation of systems notices also apply to this system. Policies and practices for storing, retrieving, accessing, retaining, and disposing of records in the system:

Storage:

The media in which these records are maintained vary, but include: Computer records (Local Area Network (LAN) File Server); card files; file folders; ledgers; microfiche; and printed reports.

Retrievability:

Name and/or Social Security Number and employee payroll number.

Safeguards:

Password controlled system, file, and element access based on predefined need-to-know. Physical access to terminals, terminal rooms, buildings and activities' grounds are controlled by locked terminals and rooms, guards, personnel screening and visitor registers.

Retention and disposal:

Destroy after GAO audit or when 6 years old, whichever is sooner.

System manager(s) and address:

Policy Official: Commander, Navy Exchange Service Command, 3280 Virginia Beach Boulevard, Virginia Beach, VA 23452-5724.

Record Holder Manager: Risk Management and Workers Compensation Branch (TD2); Insurance/Employee Benefits Branch (HRG4), Navy Exchange Service Command, 3280 Virginia Beach Boulevard, Virginia Beach, VA 23452-5724.

Notification procedure:

Individuals seeking to determine whether this system of records contains information about themselves should address written inquiries to the Commander, Navy Exchange Service Command, 3280 Virginia Beach Boulevard, Virginia Beach, VA 23452-5724.

The request must contain the individual's full name, Social Security Number, and activity where last employed.

Record access procedures:

Individuals seeking access to records about themselves contained in this system of records should address written inquiries to the Commander, Navy Exchange Service Command, 3280 Virginia Beach Boulevard, Virginia Beach, VA 23452-5724.

The request must contain the individual's full name, Social Security Number, and activity where last employed.

Contesting record procedures:

The Navy's rules for accessing records, and for contesting contents and appealing initial agency determinations are published in Secretary of the Navy Instruction 5211.5; 32 CFR part 701; or may be obtained from the system manager.

Record source categories:

Individual, supervisor, employee's physician and/or insurance carrier's physician.

Exemptions claimed for the system:

None.

[FR Doc. E8-9804 Filed 5-2-08; 8:45 am]

BILLING CODE 5001-06-P